DEPARTMENT OF AGRICULTURE

Food and Nutrition Service

Agency Information Collection Activities: Proposed Collection; Comment Request—Feasibility of Computer Matching in the National School Lunch Program

AGENCY: Food and Nutrition Service, Department of Agriculture.

ACTION: Notice.

SUMMARY: In accordance with the Paperwork Reduction Act of 1995, this notice announces the Food and Nutrition Service's intention to request Office of Management and Budget approval of a new information collection from State Child Nutrition (CN), Education, and Medicaid agencies, as well as School Food Authorities (SFAs). The study will collect information to examine the feasibility of using computer matching in the National School Lunch Program (NSLP) to help improve program integrity and operational efficiency.

DATES: Written comments on this notice must be received by March 29, 2005, to be assured of consideration.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology.

Comments may be sent to Alberta Frost, Director, Office of Analysis, Nutrition, and Evaluation, Food and Nutrition Service, Department of Agriculture, 3101 Park Center Drive, Room 1014, Alexandria, VA 22302.

All responses to this notice will be summarized and included in the request for Office of Management and Budget (OMB) approval of the information collection. All comments will also become a matter of public record.

FOR FURTHER INFORMATION CONTACT: Requests for additional information or copies of the proposed information collection forms should be directed to Alberta Frost at (703) 305-2017.

SUPPLEMENTARY INFORMATION: Title: Feasibility of Computer Matching in the National School Lunch Program.

OMB Number: Not yet assigned.

Expiration Date: Not applicable.

Type of Request: New collection of information.

Abstract: The Food and Nutrition Service (FNS) is seeking to improve the process by which SFAs determine and verify the children eligible for free and reduced-price school meals. Recent studies suggest that a significant number of ineligible children are being approved for free and reduced-price meals. Congress expressed concern about these issues in the Child Nutrition and WIC Reauthorization Act of 2004 (Pub. L. 108-265) (the Act). Section 105(a) requires USDA to conduct a study on the feasibility of using computer technology to reduce errors, waste, fraud, and abuse in the NSLP. The study will collect and analyze data through mail surveys of all states and in-depth telephone interviews with six selected States to: Assess current and planned use of computer matching for NSLP certification and application verification; identify benefits, challenges, and barriers to computer matching; collect information on statewide student information systems and education matches with Medicaid and wage data; and identify the types of information maintained by the Medicaid program that could be useful for NSLP certification and verification.

Estimate of Burden: The public reporting burden for the survey of State CN Program directors is estimated at 40 minutes for the mail survey. The public reporting burden for the survey of State Education Agency (SEA) liaisons to the National Center for Education Statistics (NCES) is estimated to be 15 minutes for the mail survey. The public reporting burden for the survey of State Medicaid Directors is estimated to be 30 minutes for the mail survey.

For the in-depth telephone interviews, the burden estimates per respondent in each of the six States are: State CN officials, 60 minutes; State Student Information Systems administrators, 60 minutes; State Food Stamp Program (FSP) agency officials, 60 minutes; State Medicaid agency officials, 60 minutes; State Wage Information Collection Agency (SWICA) officials, 60 minutes; and SFA administrators, 60 minutes.

Respondents: Respondents for the mail survey are State CN Directors, SEA NCES liaisons, and State Medicaid Directors. Respondents for the in-depth telephone interviews include: State CN officials; State Student Information Systems administrators; State FSP agency officials; State Medicaid agency officials, SWICA officials, and SFA administrators.

Estimated Number of Respondents: Mail surveys will be conducted with 51 State CN Program Directors, 51 SEA NCES liaisons, and 51 State Medicaid Directors.

In-depth telephone interviews will be conducted with: 12 State CN agency officials; 12 State Student Information Systems administrators; 12 State FSP agency officials; 12 State Medicaid agency officials; 12 SWICA officials; and 12 SFA administrators.

Number of Responses per Respondent: One response per respondent per data collection effort.

Estimated Time per Response:

Respondents | Number | Minutes | Total minutes
State CN Directors: Mail Survey | 51 | 40 | 2,040
SEA NCES Liaisons: Mail Survey | 51 | 15 | 765
State Medicaid Directors: Mail Survey | 51 | 30 | 1,530
State CN Officials: Telephone Interview | 12 | 60 | 720
State Student Information System Administrators: Telephone Interview | 12 | 60 | 720
State FSP Officials: Telephone Interview | 12 | 60 | 720
State Medicaid Officials: Telephone Interview | 12 | 60 | 720
SWICA Officials: Telephone Interview | 12 | 60 | 720
SFA Administrators: Telephone Interview | 12 | 60 | 720
Total Respondent Burden |  |  | 8,655

Estimated Total Annual Burden on Respondents: 144 hours.

Dated: January 21, 2005.
Roberto Salazar,
Administrator.

[FR Doc. 05-1616 Filed 1-27-05; 8:45 am]

BILLING CODE 3410-30-P